FEDERAL TRADE COMMISSION

16 CFR Part 4

Revisions to Rules of Practice

AGENCY: Federal Trade Commission.

ACTION: Final rules; technical correction.

SUMMARY: The Federal Trade Commission published final rules on March 23, 2015, revising certain of its rules of practice. This document makes a technical correction to those final rules.

DATES: Effective March 31, 2015.

FOR FURTHER INFORMATION CONTACT: G. Richard Gold, Attorney, (202) 326-3355, Office of the General Counsel, Federal Trade Commission, 600 Pennsylvania Avenue NW., Washington, DC 20580.

SUPPLEMENTARY INFORMATION: The Commission published a document in the Federal Register of March 23, 2015 (80 FR 15157), revising certain of its rules of practice. The document contained an incorrect paragraph reference in amendatory instruction 17 that referenced “(a)(10)(viii)” instead of “(b)(10)(viii).” This document corrections the erroneous paragraph reference.

List of Subjects in 16 CFR Part 4

Administrative practice and procedure, Freedom of information, Public record.

For the reasons set forth in the preamble, the Federal Trade Commission amends title 16, chapter I, subchapter A of the Code of Federal Regulations as follows:

PART 4—MISCELLANEOUS RULES

1. The authority citation for part 4 continues to read as follows:

Authority: 15 U.S.C. 46, unless otherwise noted.

2. Amend § 4.9 by revising paragraph (b)(10)(viii) to read as follows:

§ 4.9 The public record.

* * * * *

(b) * * *

(10) * * *

(viii) The Commission's annual report submitted after the end of each fiscal year, summarizing its work during the year (with copies obtainable from the Superintendent of Documents, U.S. Government Publishing Office, Washington, DC 20402) and any other annual reports made to Congress on activities of the Commission as required by law;

* * * * *

Donald S. Clark,
Secretary.

[FR Doc. 2015-07117 Filed 3-30-15; 8:45 am]

BILLING CODE 6750-01-P